DEPARTMENT OF THE INTERIOR

Bureau of Land Management

[AK-932-1410-HX; AA-65185]

Public Land Order No. 7449; Partial Revocation of Public Land Order No. 725; Alaska

AGENCY: Bureau of Land Management, Interior.

ACTION: Public Land Order.

SUMMARY: This order partially revokes a public land order insofar as it affects 32.66 acres of National Forest System land withdrawn for use by the Forest Service for the Edna Bay Administrative Site. The land is no longer needed for the purpose for which it was withdrawn. This action also allows the conveyance of the land to the State of Alaska, if such land is otherwise available. Land not conveyed to the State is opened to such forms of disposition as may by law be made of National Forest System land, subject to other withdrawals or segregations of record.

EFFECTIVE DATE: June 2, 2000.

FOR FURTHER INFORMATION CONTACT: Shirley J. Macke, Bureau of Land Management, Alaska State Office, 222 W. 7th Avenue, No. 13, Anchorage, Alaska 99513-7599, 907-271-5049.

By virtue of the authority vested in the Secretary of the Interior by Section 204 of the Federal Land Policy and Management Act of 1976, 43 U.S.C. 1714 (1994), it is ordered as follows:

1. Public Land Order No. 725, which withdrew National Forest System land for administrative sites or for other public purposes, is hereby revoked insofar as it affects the following described land:

Copper River Meridian

Tongass National Forest

T. 68 S., R. 76 E., Sec. 28, lots 11 and 12, and W½SE¼NW¼.

The area described contains 32.66 acres.

2. The State of Alaska application for selection made under Section 6(a) of the Alaska Statehood Act of July 7, 1958, 48 U.S.C. note prec. 21 (1994), and under Section 906(e) of the Alaska National Interest Lands Conservation Act, 43 U.S.C. 1635(e) (1994), is effective without further action by the State upon publication of this public land order in the Federal Register, if such land is otherwise available. Land not conveyed to the State is opened to such forms of disposition as may by law be made of National Forest System land subject to valid existing rights, the provisions of existing withdrawals, other segregations of record, and the requirements of applicable law.

Dated: May 22, 2000.
Sylvia V. Baca,
Assistant Secretary of the Interior.

[FR Doc. 00-13865 Filed 6-1-00; 8:45 am]

BILLING CODE 4310-JA-P